DEPARTMENT OF THE INTERIOR

Bureau of Land Management

[LLCOF02000.L16100000.DP0000.19X]

Notice of Availability of the Draft Eastern Colorado Resource Management Plan and Draft Environmental Impact Statement for the Royal Gorge Field Office, Colorado

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Royal Gorge Field Office and by this notice is announcing the opening of the comment period.

DATES: To ensure that comments will be considered, the BLM must receive written comments on the Draft RMP/Draft EIS within 90 days following the date the Environmental Protection Agency publishes its notice of availability in the Federal Register. The BLM will announce future meetings or hearings and any other public participation activities at least 15 days in advance through public notices, media releases, and/or mailings.

ADDRESSES: Comments related to the Draft Eastern Colorado RMP/EIS must be submitted by the following methods:

• Electronic comments must be submitted via the ePlanning website at https://go.usa.gov/xQcZT.

• Hard copy comments must be submitted via mail or hand-delivered to the Royal Gorge Field Office, 3028 E. Main St., Cañon City, CO 81212.

A copy of the Draft Eastern Colorado RMP/EIS is available at the Royal Gorge Field Office at the address above or on the RMP ePlanning website at: https://go.usa.gov/xQcZT. Click the Documents & Reports link on the left side of the screen to find the electronic version of these materials.

FOR FURTHER INFORMATION CONTACT: John Smeins, Project Manager, telephone: 719-269-8581; email: jsmeins@blm.gov. Persons who use a telecommunications device for the deaf (TDD) may call the Federal Relay Service (FRS) at 1-800-877-8339 to contact Mr. Smeins during normal business hours. FRS is available 24 hours a day, 7 days a week, to leave a message or question. You will receive a reply during normal business hours.

SUPPLEMENTARY INFORMATION: The BLM prepared the Draft Eastern Colorado RMP/EIS to evaluate and revise the management strategy for resources, resource uses, and special designations within the Royal Gorge Field Office, which is the planning area for the RMP. Existing management decisions for public lands and resources in the Royal Gorge Field Office are currently described in two documents: The 1986 Northeast RMP, as amended; and the 1996 Royal Gorge RMP, as amended.

The Royal Gorge Field Office encompasses approximately 35 million acres of land under various jurisdictions, including the BLM, U.S. Forest Service, National Park Service, State of Colorado, and local and private lands in 37 counties across south-central and eastern Colorado. The Browns Canyon National Monument is not part of the planning area for this RMP/EIS. The Eastern Colorado RMP will determine management for approximately 658,200 acres of BLM-administered surface land and approximately 3,311,900 acres of BLM-administered mineral estate located throughout south-central and eastern Colorado. Planning decisions for Federal minerals underlying National Forests and Grasslands are contained in separate documents prepared by the U.S. Forest Service.

The formal public scoping process for the Eastern Colorado RMP/EIS began on June 1, 2015, with the publication of a Notice of Intent in the Federal Register (80 FR 31063). The BLM held eight open-house scoping meetings in June and July 2015. The BLM used public scoping comments to help identify planning issues to formulate alternatives and frame the scope of analysis in the Draft RMP/EIS. The BLM also used the scoping process to introduce the public to the preliminary planning criteria, which defined the scope of the Draft RMP/EIS. Following the formal scoping period, the BLM made the Preliminary Alternatives and Draft Basis for Analysis available for public review to obtain feedback on the alternatives and the analysis strategy. The BLM held eight public meetings to review the alternatives. Based on information received during this review, the BLM modified the alternatives and the analysis.

Major issues considered in the Draft RMP/EIS are management of biological resources, special status species, renewable and nonrenewable energy, minerals, human activities, and uses including recreation and livestock grazing, utility/energy corridors and rights-of-way, and cultural resources. The RMP also considers decisions regarding wild and scenic rivers, areas of critical environmental concern (ACECs), and management of lands with wilderness characteristics. The Draft RMP/EIS evaluates in detail the No Action Alternative (Alternative A) and three action alternatives (Alternatives B, C and D). The BLM identified Alternative D as the Preferred Alternative. This alternative, however, does not represent the final agency direction. After the public comment period closes, the BLM will prepare a Proposed RMP, which may reflect changes or adjustments based on information received during public comment on the Draft RMP/EIS, new information, or changes in BLM policies or priorities. The Proposed RMP may include objectives and actions described in any of the alternatives analyzed in the Draft.

Alternative A retains the current management goals, objectives, and direction specified in the 1986 Northeast RMP and the 1996 Royal Gorge RMP. Alternative B emphasizes improving, rehabilitating, and restoring resources; sustaining the ecological integrity of habitats for all priority plant, wildlife and fish species; and allowing appropriate development scenarios for allowable uses (such as mineral leasing, recreation, communication sites and livestock grazing). Alternative C emphasizes a mix of uses that maximizes utilization of resources while protecting land health. The development scenarios for allowable uses in this alternative emphasize maximizing resource production in an environmentally responsible manner while maintaining the basic protection needed to sustain resources, including mitigating impacts on land health. Alternative D emphasizes balancing resources and resource use among competing human interests, land uses, and the conservation of natural and cultural resource values, while sustaining and enhancing ecological integrity across the landscape, including plant, wildlife, and fish habitat. This alternative has four geographic landscapes with distinct management, and incorporates a balanced level of protection, restoration and enhancement, as well as use of resources and services to meet ongoing programs and land uses with an emphasis on local community visions for the future of public lands.

Pursuant to 43 CFR 3461.2-1(a)(2), this notice announces a concurrent public comment period on the application of unsuitability criteria to lands with coal development potential. Maps and other information describing the results of the application of unsuitability criteria are available on the RMP ePlanning website and at the BLM Royal Gorge Field Office (see contact information above).

Pursuant to 43 CFR 1610.7-2(b), this notice announces a concurrent public comment period on the proposed designation of ACECs. The BLM analyzed ten potential ACECs meeting the relevance and importance criteria within the range of action alternatives:

• Alternative B would retain four ACECs in their current size—Arkansas Canyonlands (23,700 acres), Droney Gulch (700 acres), Grape Creek (16,600 acres) and Ruby Mountain/Railroad Gulch (1,800 acres); would expand three existing ACECs—Cucharas Canyon (6,100 acres), Garden Park (3,100 acres) and Top of the World (8,700 acres); and expand two existing ACECs into a single area—South Pikes Peak (40,400 acres).

• Alternative C would retain three current ACECs in their current size—Cucharas Canyon (1,400 acres), Garden Park (2,700 acres) and Top of the World (Mosquito Pass existing) (4,200 acres); reduce three existing ACECs—Arkansas Canyonlands (18,700 acres), Grape Creek (2,300 acres) and Phantom Canyon (5,500 acres); and eliminate three ACECs—Beaver Creek (12,100 acres), Droney Gulch (700 acres) and Ruby Mountain/Railroad Gulch (1,800 acres).

• Alternative D would retain one ACEC in its current size—Droney Gulch (700 acres); propose one new ACEC—Castle Gardens (300 acres); expand three existing ACECs—Cucharas Canyon (6,100), Garden Park (3,100 acres) and Top of the World (8,700 acres); reduce three existing ACECs—Arkansas Canyonlands (19,600 acres), Grape Creek (2,300 acres) and Phantom Canyon (5,500 acres); and eliminate two existing ACECs—Beaver Creek (12,100 acres) and portions of the Browns Canyon ACEC outside the National Monument (Ruby Mountain/Railroad Gulch (1,800 acres).

The following management prescriptions may apply to the individual ACECs under consideration if designated: Avoid rights-of-way, close or restrict fluid mineral development, close to mineral material disposal, restrict vehicles and bicycles to designated roads and trails, prohibit fuelwood permits and retain in public ownership. Please note that public comments and information submitted, including names, street addresses, and email addresses of persons who submit comments, will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Jamie E. Connell,
BLM Colorado State Director.

[FR Doc. 2019-13087 Filed 6-20-19; 8:45 am]

BILLING CODE 4310-JB-P